DEPARTMENT OF STATE

[Public Notice: 12940]

TITLE: Notice of Public Meeting To Prepare for International Maritime Organization SSE 12 Session

The Department of State will conduct a public meeting at 10:00 a.m. on Monday, March 2, 2026, by teleconference. The primary purpose of the meeting is to prepare for the twelfth session of the International Maritime Organization's (IMO) Sub-Committee on Ship Systems and Equipment (SSE 12) to be held at IMO Headquarters in London, United Kingdom from Monday, March 9, 2026, to Friday, March 13, 2026.

The agenda items to be considered include:

—Adoption of the agenda

—Decisions of other IMO bodies

—New requirements for ventilation of survival craft (7.36)

—Revision of the Revised guidelines for the maintenance and inspections of fixed carbon dioxide fire-extinguishing systems (MSC.1/Circ.1318/Rev.1) to clarify the testing and inspection provisions for CO2 cylinders (7.25)

—Revision of SOLAS chapter III and the LSA Code (2.16)

—Amendments to SOLAS chapter III and chapter IV of the LSA Code to require the carriage of self-righting or canopied reversible liferafts for new ships (7.30)

—Development of amendments to paragraph 2.1.2.5 of chapter 5 of the FSS Code on construction requirement for gaskets (1.13)

—Revision of the 2010 FTP Code to allow for new fire protection systems and materials (7.34)

—Review and update SOLAS regulation II-2/9 on containment of fire to incorporate existing guidance and clarify requirements (7.48)

—Unified interpretation of provisions of IMO safety, security, environment, facilitation, liability and compensation-related conventions (7.1)

—Validated model training courses (6.2)

—Development of amendments to SOLAS chapter II-2 and the FSS Code concerning detection and control of fires in cargo holds and on the cargo deck of containerships (7.15)

—Development of provisions to consider prohibiting the use of fire-fighting foams containing fluorinated substances, in addition to PFOS, for fire-fighting on board ships (7.41)

—Comprehensive review of the Requirements for maintenance, thorough examination, operational testing, overhaul and repair of lifeboats and rescue boats, launching appliances and release gear (resolution MSC.402(96)) to address challenges with their implementation (7.29)

—Amendments to the LSA Code for thermal performance of immersion suits (7.19)

—Evaluation of adequacy of fire protection, detection and extinction arrangements in vehicle, special category and ro-ro spaces in order to reduce the fire risk of ships carrying new energy vehicles (7.37)

—Development of a safety regulatory framework to support the reduction of GHG emissions from ships using new technologies and alternative fuels (3.8)

—Biennial status report and provisional agenda for SSE 13

—Election of Chair and Vice-Chair for 2027

—Any other business

—Report to the Maritime Safety Committee.

Please note: The IMO may, on short notice, adjust the SSE 12 agenda to accommodate any constraints associated with the meeting. Although no changes to the agenda are anticipated, if any are necessary, they will be provided to those who RSVP.

Those who plan to participate may contact the meeting coordinator, LT Huston Helwig, by email at Huston.Helwig@uscg.mil, by phone at (206) 827-1553, or in writing at ATTN: LT Huston Helwig, 2703 Martin Luther King Jr. Ave. SE, Stop 7509, Washington, DC 20593-7509, by February 23, 2026. Members of the public needing reasonable accommodation should advise LT Huston Helwig no later than February 23, 2026. Requests made after that date will be considered but might not be possible to fulfill.

Additional information regarding this and other IMO public meetings may be found at: https://www.dco.uscg.mil/IMO.

(Authority: 22 U.S.C. 2656 and 5 U.S.C. 552.)

Emily C. Miletello,
Coast Guard Liaison Officer, Office of Ocean and Polar Affairs, U.S. Department of State.

[FR Doc. 2026-02209 Filed 2-3-26; 8:45 am]

BILLING CODE 4710-09-P